DEPARTMENT OF DEFENSE

Department of the Air Force

Record of Decision for the F-35A Operational Beddown—Pacific, Eielson Air Force Base, Alaska

AGENCY: Pacific Air Forces, Department of the Air Force.

ACTION: Notice of availability of a record of decision.

SUMMARY: The United States Air Force signed the Record of Decision for the F-35A Operational Beddown—Pacific, for the Eielson Air Force Base, Alaska Supplemental Final Environmental Impact Statement on December 19, 2017. The Record of Decision reflects the Air Force decision to implement the three Proposed Action Alternatives: provide additional stormwater runoff control; develop equipment and material laydown areas; and provide additional heat, water, and power to the South Loop.

The decision was based on matters discussed in the F-35A Operational Beddown—Pacific, Final Supplemental Environmental Impact Statement, contributions from the public and regulatory agencies, and other relevant factors. The Final Supplemental Environmental Impact Statement was made available to the public on October 6, 2017 through a Notice of Availability published in the Federal Register (82 FR 46808) with a 30-day wait period that ended on November 6, 2017.

FOR FURTHER INFORMATION CONTACT: Mr. Hamid Kamalpour, AFCEC/CZN, 2261 Hughes Ave, Ste 155, JBSA Lackland, TX 78236, ph: 210-925-2738.

Authority: This Notice of Availability is published pursuant to the regulations (40 CFR part 1506.6) implementing the provisions of the National Environmental Policy Act of 1969 (42 U.S.C. 4321, et seq.) and the Air Force's Environmental Impact Analysis Process (32 CFR parts 989.21(b) and 989.24(b)(7)).

Anh Trinh,
Air Force Federal Register Liaison Officer.

[FR Doc. 2018-00458 Filed 1-11-18; 8:45 am]

BILLING CODE 5001-10-P